DEPARTMENT OF AGRICULTURE

Agricultural Marketing Service

[Docket Number FV-02-335]

United States Standards for Grades of Apple Juice from Concentrate

AGENCY: Agricultural Marketing Service, USDA.

ACTION: Reopening and extension of the comment period.

SUMMARY: Notice is hereby given that the comment period on the proposed notice to create a new United States Standard for Grades of Apple Juice from Concentrate is reopened and extended.

DATES: Comments may be submitted on or before April 19, 2002.

ADDRESSES: Written comments may be submitted to: Lydia E. Berry, Processed Products Branch, Fruit and Vegetable Programs, Agricultural Marketing Service, U.S. Department of Agriculture, STOP 0247, 1400 Independence Avenue, SW., Washington, DC 20250-0247; fax (202) 690-1087; or e-mail lydia.berry@usda.gov. Comments should reference the date and page of this issue of the Federal Register. All comments received will be made available for public inspection at the address listed above during regular business hours and on the Internet.

The draft of the United States Standards for Grades of Apple Juice from Concentrate is available either through the address cited above or by accessing the AMS Home Page on the Internet at: www.ams.usda.gov/fv/ppb.html. Any comments received, regarding this proposed standard will also be posted on that site.

FOR FURTHER INFORMATION CONTACT: Lydia E. Berry at (202) 720-5021 or e-mail at lydia.berry@usda.gov.

SUPPLEMENTARY INFORMATION: A notice was published in the Federal Register (66 FR 58430 to 58431; November 21, 2001) requesting comments on a proposal to create a United States Standard for Grades of Apple Juice From Concentrate. The action would create grade standards for apple juice from concentrate that will include a description of the product, style, grades, ascertaining the grade by sample, and ascertaining the grade by lot. The proposed standard would provide a common language for trade, a means of measuring value in the marketing of apple juice from concentrate, and provide guidance in the effective utilization of apple juice from concentrate.

Congressional representatives representing a major apple producing area requested that additional time be provided for interested persons to comment on the proposed standard. The Congressmen believe that extending the comment period will enable the many growers and processors in their districts that have voiced their concern to their offices to respond to our solicitation for comments.

After reviewing the request, the Department is reopening and extending the common period in order to allow sufficient time for all interested persons to file comments.

This notice provides for a 30 day comment period for interested parties to comment on changes to the standards.

Dated: March 14, 2002.
A.J. Yates,
Administrator, Agricultural Marketing Services.

[FR Doc. 02-6691 Filed 3-19-02; 8:45 am]

BILLING CODE 3410-02-M